NUCLEAR REGULATORY COMMISSION

Criteria for Nominating Materials Licensees for the U. S. Nuclear Regulatory Commission's Agency Action Review Meeting

AGENCY: Nuclear Regulatory Commission.

ACTION: Request for comment.

SUMMARY: It is the policy of the U.S. Nuclear Regulatory Commission (NRC) to have its senior managers conduct an annual Agency Action Review Meeting (AARM). The AARM is an integral part of the evaluative process used by the agency to ensure the operational safety performance of nuclear licensees. As a part of the AARM process, the NRC reviews the actions concerning fuel cycle facilities and other materials licensees (including Agreement State licensees) with significant performance problems. In 2002, the NRC developed criteria for determining materials licensees that will be discussed at the AARM. These criteria may be found in Table 1 of SECY-02-0216 (ADAMS Accession Number: ML022410435).

The NRC is preparing to revise the criteria in Table 1 of SECY-02-0216. The revised criteria (which can be found in ADAMS at Accession Number: ML080600165 or in the supplementary information below) provides additional definition of the criteria requirements to incorporate NRC's current policies and procedures. This notice provides the revised criteria for public comment.

DATES: Please submit comments regarding the proposed criteria, by May 1, 2008. Comments received after this date will be considered if practical to do so, but the NRC staff is able to ensure consideration only for those comments received on or before this date.

ADDRESSES: Members of the public are invited and encouraged to submit written comments to Michael Lesar, Chief, Rulemaking, Directives, and Editing Branch, Office of Administration, Mail Stop T6-D59, U.S. Nuclear Regulatory Commission, Washington, DC 20555-0001. You may hand-deliver comments attention to Michael Lesar, 11545 Rockville Pike, Rockville, MD between 7:30 a.m. and 4:15 p.m. on Federal workdays. Comments may also be sent electronically to NRCREP@nrc.gov.

Publicly available documents related to this notice, including public comments received, are available electronically through the NRC's Electronic Reading Room at http://www.nrc.gov/NRC/reading-rm/adams.html. From this site, the public can gain entry into the NRC's Agencywide Documents Access and Management System (ADAMS), which provides text and image files of NRC's public documents. If there are problems in accessing the documents located in ADAMS, contact the (PDR) Reference staff at 1-800-397-4209, 301-415-4737 or be e-mail to PDR@nrc.gov.

FOR FURTHER INFORMATION CONTACT: Duane White by telephone at 301-415-6272, e-mail: dew2@nrc.gov.

SUPPLEMENTARY INFORMATION:

Background

In 2002, NRC developed a process for providing information on significant nuclear materials issues and adverse licensee performance. This process was provided in SECY-02-0216, “Proposed Process for Providing Information on Significant Nuclear Materials Issues and Adverse Licensee Performance,” dated December 11, 2002. As part of this process, criteria were developed to determine nuclear material licensees with significant performance problems that will be discussed at the AARM.

The AARM is an agency meeting that allows senior NRC managers (1) to review agency actions resulting from the performance of nuclear reactor licensees for those nuclear power plants with significant performance problems as determined by the reactor oversight process (ROP) action matrix, (2) to review results of the staff's assessment of ROP effectiveness, (3) to review industry performance trends, and (4) to review agency actions concerning fuel cycle facilities and other materials licensees (including Agreement State licensees) with significant performance problems.

Discussion

NRC is preparing to revise the current criteria used to determine nuclear material licensees that will be discussed at the AARM. The agency currently identifies nuclear material licensees for AARM discussion based on operating performance, inspection results, and judgment of the severity of problems of safety performance. The proposed changes to the criteria will continue to be based on the same principles of the existing criteria. However, the new criteria provide additional definition of the criteria requirements and incorporate NRC's current policy and procedures.

Current Criteria for Determining Materials Licensees for the AARM

The current criteria for determining materials licensees for the AARM, as described in Table 1 of SECY-02-0216, is as follows: (1) Licensee has an event that results in the failure to meet a safety measure (e.g., a death, release with significant impact on the environment, etc.); (2) licensee has an event that results in an abnormal occurrence, or an event that qualifies for a severity level I or II violation, or multiple events that meet the agency strategic plan performance measure (e.g., reportable loss of material, breakdown of physical protection, etc.), and technical staff believes that there are unique or unusual aspects of the cases that are not adequately or appropriately handled within the normal inspection and enforcement process; or (3) licensee has significant breakdowns in its licensed program, where the breakdowns involve more than one compliance item (e.g., a dose monitoring breakdown and a widespread failure to implement and maintain required procedures), and technical staff believe that there are unique or unusual aspects of the cases that are not adequately or appropriately handled within the normal inspection and enforcement processes.

Proposed Criteria for Determining Materials Licensees for the AARM

The NRC is proposing the following revision to the existing criteria for determining materials licensees with significant performance issues: (1) Strategic Plan—Licensee has an event that results in the failure to meet a strategic outcome for safety and security in the NRC strategic plan, which may be found in NUREG-1614; (2) Significant Issue—Licensee has an issue or event that results in an abnormal occurrence report to Congress, as described in NRC Management Directive 8.1, or a severity level I or II violation, as described in the NRC Enforcement Policy, or a level 3 or higher International Nuclear Scale Report to the International Atomic Energy Agency, as described in NRC Management Directive 5.12, and there are unique or unusual aspects of the licensee's performance that warrant additional NRC oversight (e.g., a significant event, which requires an incident investigation team (IIT) or augmented inspection team (AIT)); or (3) Performance Trend—Licensee has multiple and/or repetitive significant program issues identified over more than one inspection, or inspection period, and the issues are supported by escalated enforcement, which includes the Alternate Dispute Resolution (ADR) process, and there are unique or unusual aspects of the licensee's performance that warrant additional NRC oversight (e.g., oversight panel formed for order implementation).

You can find NRC's strategic plan (NUREG-1614) and the referenced management directives and enforcement policy on NRC's public document collections Web page at http://www.nrc.gov/reading-rm/doc-collections/.

Dated at Rockville, Maryland, this 11th day of March 2008.
For the Nuclear Regulatory Commission.
George Pangburn,
Deputy Director, Office of Federal and State Materials,and Environmental Management Programs.

[FR Doc. E8-5258 Filed 3-14-08; 8:45 am]

BILLING CODE 7590-01-P